DEPARTMENT OF COMMERCE

National Oceanic and Atmospheric Administration

RIN 0648-XA728

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 108th Scientific and Statistical Committee (SSC) and its 152nd Council meeting to take actions on fishery management issues in the Western Pacific Region.

DATES: The SSC will meet on October 17-19, 2011, between 8:30 a.m. and 5 p.m.; the Council's Executive and Budget Standing Committee will meet on October 19, 2011, between 8 a.m. and 10 a.m.; the Pelagic and International Fisheries Standing Committee will meet on October 19 between 10 a.m. and 12 noon; the 152nd Council meeting will meet on October 19-22, 2011. The 152nd Council Meeting will be held between 2 p.m. and 6 p.m. on October 19, 2011, between 9 a.m. and 6 p.m. on October 20-21, 2011, and between 8:30 a.m. and 1 p.m. on October 22, 2011. All meetings will be held in Honolulu.

For specific times and agendas, see SUPPLEMENTARY INFORMATION.

ADDRESSES: The 108th SSC meeting, Council Executive and Budget Standing Committee and Pelagic and International Fisheries Standing Committee will be held at the Council office, 1164 Bishop Street, Honolulu, HI 96813; telephone: (808) 522-8220. The 152nd Council meeting will be held at the Laniakea YWCA-Fuller Hall, 1040 Richards Street, Honolulu, HI 96813 Honolulu; telephone: (808) 538-7061.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule and Agenda for 108th SSC Meeting

8:30 a.m.-5 p.m., Monday, October 17, 2011

1. Introductions.

2. Approval of Draft Agenda and Assignment of Rapporteurs.

3. Status of the 107th SSC Meeting Recommendations.

4. Report from the Pacific Islands Fisheries Science Center Director.

5. Program Planning.

A. Specification of Acceptable Biological Catches (ACTION ITEM).

1. Species with No Maximum Sustainable Yield (MSY), Existing Quota, or Reference Points (Tier 5).

a. Coral Reef Fish for All Island Areas.

b. Vulnerable Species for All Island Areas.

c. Mollusks, Crustaceans, Other Invertebrates for All Island Areas.

2. Species with MSY, Existing Quota, or Reference Points (Tier 3 and 4).

a. Coastal Pelagics in Hawaii.

b. Non-Finfish for All Island Areas.

i. Lobster.

ii. Kona Crab.

iii. Deepwater Shrimp.

iv. Black Corals.

v. Precious Corals.

c. Bottomfish.

i. Bottomfish Management Unit Species (BMUS) in American Samoa, Guam, CNMI.

ii. Non Deep-7 BMUS for Hawaii.

B. Alternatives for Non-commercial Data Collection in Hawaii.

C. Report on Western Pacific Fisheries Information Network (WPacFIN) Program Data Review.

D. Essential Fish Habitat (EFH) and Habitat of Particular Concern (HAPC).

1. EFH/HAPC for Commonwealth of the Northern Mariana Islands (CNMI), Guam and American Samoa.

2. Hawaii Bottomfish EFH/HAPC draft Amendment (ACTION ITEM).

E. Status of Fisheries Ecosystem Plan (FEP) Amendments.

F. Review of the Council 5 Year Research Priorities.

G. Cooperative Research Priorities.

H. Report on Marianas Trench Marine National Monument Science and Expo Workshop.

I. Non-Commercial Fisheries Data Advisory Committee Recommendations.

J. Public Comment.

K. SSC Discussion and Recommendations.

8:30 a.m.-5 p.m., Tuesday, October 18, 2011

Video Presentation—Traditional Fishing on Guam

6. Pelagic Fisheries.

A. Action Items.

1. Amendment Options for American Samoa Swordfish Longline Fishery.

B. Information on Yellowfin Tuna Around the Hawaiian Islands—Management Implications.

C. Striped Marlin Catch Limit.

D. American Samoa and Hawaii Longline Quarterly Report.

E. International Fisheries Meetings.

1. Kobe III Meeting.

2. Kobe III Bycatch Working Group.

3. Western and Central Pacific Fisheries Commission (WCPFC) Science Committee.

4. WCPFC Northern Committee.

5. WCPFC Technical and Compliance Committee.

6. Inter-American Tropical Tuna Commission 82nd Meeting.

7. North Pacific Regional Fishery Management Organization Preparatory Conference (NPRFMO-PrepCon).

F. Public Comment.

G. SSC Discussion and Recommendations.

7. Protected Species.

A. Loggerhead Turtle Final Listing Rule and New Biological Opinion.

B. False Killer Whale Take Reduction Plan Proposed Rule and Take Reduction Team Meeting.

C. Proposed 2012 List of Fisheries and Draft 2011 Stock Assessment Report.

D. Analysis of Leatherback Turtle Bycatch Patterns in the Hawaii Longline Fishery.

E. Public Comment.

F. SSC Discussion and Recommendations.

8:30 a.m.-5 p.m., Wednesday, October 19, 2011

8. Other Meetings & Workshops.

A. Report on National SSC Workshop.

9. Other Business.

A. 109th SSC Meeting.

B. Future Format of the SSC.

C. Future SSC Membership.

10. Summary of SSC Recommendations to the Council.

8 a.m.-10 a.m., Wednesday, October 19, 2011

Executive and Budget Standing Committee.

10 a.m.-12 noon, Wednesday, October 19, 2011

Pelagic and International Standing Committee.

2 p.m.-6 p.m., Wednesday, October 19, 2011

1. Introductions.

2. Approval of the 152nd Agenda.

3. Approval of the 151st Meeting Minutes.

4. Executive Director's Report.

5. Agency Reports.

A. National Marine Fisheries Service.

1. Pacific Islands Regional Office.

2. Pacific Islands Fisheries Science Center.

B. NOAA Regional Counsel.

C. U.S. Fish and Wildlife Service.

D. Enforcement.

1. U.S. Coast Guard.

2. NMFS Office for Law Enforcement.

3. NOAA General Counsel for Enforcement and Litigation.

E. Public Comment.

F. Council Discussion and Action.

9 a.m.-6 p.m., Thursday, October 20, 2011

9 a.m.-1 p.m.

6. Program Planning and Research.

A. Specification of Acceptable Biological Catches (ACTION ITEM).

1. Species with No MSY, Existing Quota, or Reference Points (Tier 5).

a. Coral Reef Fish for All Island Areas.

b. Vulnerable Species for All Island Areas.

c. Mollusks, Crustaceans, Other Invertebrates for All Island areas.

2. Species with MSY, Existing Quota, or Reference Points (Tier 3 and 4).

a. Coastal Pelagics in Hawaii.

b. Non-Finfish for All Island Areas.

i. Lobster.

ii. Kona Crab.

iii. Deepwater Shrimp.

iv. Black Corals.

v. Precious Corals.

c. Bottomfish.

i. BMUS in American Samoa, Guam, CNMI.

ii. Non Deep 7 BMUS for Hawaii.

B. Report on EFH Review for American Samoa, Guam, Commonwealth of the Northern Mariana Islands (CNMI) Bottomfish and Other Management Unit Species (MUS).

C. Coastal Marine Spatial Planning.

1. Regional Initiatives.

2. Report on Coastal Marine Spatial Planning Workshop.

3. Indigenous Climate Change Summit.

D. Review of the Council 5-Year Research Priorities.

E. Cooperative Research Priorities.

F. Community Development Plan Proposal: Traditional Fishing Training Program and Exemption to the MHI Pelagic Longline Closed Area (Action Item).

G. Report on NMFS Bio-Sampling Program.

H. Update on National/Regional Marine Recreational Fishing.

I. Hawaii, Regional, National & International Education and Outreach.

J. SSC Recommendations.

K. Hawaii Plan Team and Bottomfish Advisory Review Board Recommendations.

L. Public Hearing.

M. Council Discussion and Action.

2 p.m.-6 p.m.

7. Marianas Archipelago.

A. Arongo Flaeey.

B. Isla Informe.

C. Legislative Report.

D. Enforcement Issues.

E. Report on Marianas Trench Marine National Monument Science and Expo Workshop.

F. Community Activities and Issues.

1. Marianas Military Range Complex Environmental Impact Statement (EIS) Scoping.

2. Education and Outreach Initiatives.

H. SSC Recommendations.

I. Public Comments.

J. Council Discussion and Action.

8. American Samoa Archipelago.

A. Motu Lipoti.

B. Fono Report.

C. Enforcement Issues.

D. Update on Community Fisheries Development.

E. Community Activities and Issues.

F. Education and Outreach Initiatives.

G. SSC Recommendations.

H. Public Comments.

I. Council Discussion and Action.

9. Public Comment on Non-Agenda Items.

Fishers Forum, Waikiki Aquarium 6 p.m.-9 p.m., Code of Conduct for Hawaii's Ocean Users

9 a.m.-6 p.m., Friday, October 21, 2011

9 a.m.-1 p.m.

10. Hawaii Archipelago.

A. Moku Pepa.

B. Legislative Report.

C. Enforcement Issues.

D. Recommendations on Hawaii Non-Commercial Data Collection (ACTION ITEM).

E. Bottomfish.

1. Update on Bottomfish Life History Information.

2. Draft Amendment for Hawaii Bottomfish EFH (ACTION ITEM).

F. Community Projects, Activities and Issues.

1. Report on Hawaii Regulatory Review Initiative.

2. Maunalei Ahupua'a Restoration Project.

3. Report on the Kona Integrated Ecosystem Assessment Workshop.

4. Report on Community Fish Aggregating Devices (FADs).

5. Update from State on Shark Fining Policy.

6. Report on Open Ocean Aquaculture Project.

G. Non-Commercial Fisheries Data Advisory Committee and Hawaii Plan Team Recommendations.

H. SSC Recommendations.

I. Public Hearing.

J. Council Discussion and Action.

11. Pelagic & International Fisheries.

A. Recommendations on American Samoa Swordfish Fishery (ACTION ITEM).

B. Striped Marlin Catch Limits (ACTION ITEM).

C. Information on Yellowfin Tuna Around the Hawaiian Islands—Management Implications.

D. American Samoa and Hawaii Longline Quarterly Reports.

E. International Fisheries Meetings.

1. Kobe III.

2. Kobe III Bycatch Working Group.

3. Western and Central Pacific Fishery Commission (WCPFC). Science Committee.

4. WCPFC Northern Committee.

5. WCPFC Technical and Compliance Committee.

6. North Pacific Regional Fishery Management Organization Preparatory Conference (NPRFMO PrepCon).

7. International Scientific Committee 11th Meeting.

F. Disapproved Amendments.

G. SSC Discussion and Recommendations.

H. Pelagics Standing Committee Recommendations.

I. Public Hearing.

J. Council Discussion and Action.

8:30 a.m.-1 p.m., Saturday, October 22, 2011

12. Protected Species.

A. Loggerhead Turtle Final Listing Rule and New Biological Opinion.

B. False Killer Whale Take Reduction Plan Proposed Rule and Take Reduction Team Meeting.

C. Proposed 2012 List of Fisheries and Draft 2011 Stock Assessment Report.

D. Endangered Species Act Section 4 (Listing and Critical Habitat) Update.

E. Update on Council Turtle Program.

F. SSC Recommendations.

G. Public Comment.

H. Council Discussion and Action.

13. Administrative Matters.

A. Financial Reports.

B. Administrative Reports.

C. Standard Operating Practices and Procedures (SOPP) Review and Changes.

D. Council Family Changes.

E. Meetings and Workshops.

F. Other Business.

G. Standing Committee Recommendations.

H. Public Comment.

I. Council Discussion and Action.

14. Appointment of Council Officers.

15. Other Business.

Non-Emergency issues not contained in this agenda may come before the Council for discussion and formal Council action during its 152nd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 23, 2011.
Tracey L. Thompson,
Acting Director, Office of Sustainable Fisheries, National Marine Fisheries Service.

[FR Doc. 2011-24921 Filed 9-27-11; 8:45 am]

BILLING CODE 3510-22-P